INTERNATIONAL TRADE COMMISSION

[USITC SE-01-029]

Sunshine Act Meeting

AGENCY HOLDING THE MEETING: United States International Trade Commission.

TIME AND DATE: August 17, 2001 at 11 a.m.

PLACE: Room 101, 500 E Street SW., Washington, DC 20436, Telephone: (202) 205-2000.

STATUS: Open to the public.

MATTERS TO BE CONSIDERED: 1. Agenda for future meeting: none.

2. Minutes.

3. Ratification List.

4. Inv. Nos. 701-TA-404 and 731-TA-898 and 905 (Final)(Hot-Rolled Steel Products from Argentina and South Africa)—briefing and vote. (The Commission is currently scheduled to transmit its determination and Commissioners' opinions to the Secretary of Commerce on August 27, 2001.)

5. Outstanding action jackets: none.

In accordance with Commission policy, subject matter listed above, not disposed of at the scheduled meeting, may be carried over to the agenda of the following meeting.

Issued: August 8, 2001.
By order of the Commission.
Donna R. Koehnke,
Secretary.

[FR Doc. 01-20222 Filed 8-8-01; 11:47 am]

BILLING CODE 7020-02-P